DEPARTMENT OF COMMERCE

International Trade Administration

[A-533-810]

Stainless Steel Bar From India; Final Results of Antidumping Duty Administrative Review and New Shipper Review and Partial Rescission of Administrative Review

AGENCY: Import Administration, International Trade Administration, Department of Commerce.

ACTION: Notice of final results of 1998-1999 antidumping duty administrative review and new shipper review of stainless steel bar from India.

SUMMARY: On March 8, 2000, the Department of Commerce published the preliminary results of administrative review and new shipper review of the antidumping duty order on stainless steel bar from India. These reviews cover nine manufacturers/exporters. The period of review is February 1, 1998 through January 31, 1999.

Based on our analysis of the comments received, we have made changes in the margin calculations. Therefore, the final results differ from the preliminary results. The final weighted-average dumping margins for the reviewed firms are listed below in the section entitled Final Results of Review.

EFFECTIVE DATE: August 10, 2000.

FOR FURTHER INFORMATION CONTACT: Melani Miller or Meg Weems, Import Administration, AD/CVD Enforcement Group I, Office 1, U.S. Department of Commerce, 14th Street and Constitution Avenue, NW, Washington, DC 20230; telephone (202) 482-0116 or 482-2613, respectively.

SUPPLEMENTARY INFORMATION:

Applicable Statute and Regulations

Unless otherwise indicated, all citations to the Tariff Act of 1930, as amended (“the Act”), are references to the provisions effective January 1, 1995, the effective date of the amendments made to the Act by the Uruguay Round Agreements Act (“URAA”). In addition, all references to the Department of Commerce's (“the Department's”) regulations are to 19 CFR part 351 (April 1998).

Background

On March 8, 2000, the Department published the preliminary results of administrative review and new shipper review of the antidumping duty order on stainless steel bar from India (65 FR 12209) (“Preliminary Results”). On July 12, 2000, the Department published its determination that it was not practicable to complete the reviews within the originally anticipated time limit, and extended the time limit for completion of the final results of these reviews until not later than August 4, 2000, in accordance with section 751(a)(3)(A) of the Act (65 FR 42989). The manufacturers/exporters in this administrative review are Bhansali Bright Bars Pvt. Ltd. (“Bhansali”), Chandan Steel Ltd. (“Chandan”), Ferro Alloys Corporation Limited (“Facor”), Isibars Limited (“Isibars”), Jyoti Steel Industries (“Jyoti”), Panchmahal Steel Limited (“Panchmahal”), Parekh Bright Bars Pvt. Ltd. (“Parekh”), Shah Alloys Ltd. (“Shah”), Sindia Steel Limited (“Sindia”), Venus Wire Industries Ltd. (“Venus”), and Viraj Impoexpo Ltd. (“Viraj”). The manufacturer/exporter in this new shipper review is Meltroll Engineering Pvt. Ltd. (“Meltroll”). The period of review (“POR”) is February 1, 1998, through January 31, 1999. We invited parties to comment on our Preliminary Results of review. At the request of certain interested parties, we held a public hearing on May 22, 2000.

The Department has conducted this administrative review and new shipper review in accordance with section 751 of the Act.

Scope of the Reviews

Imports covered by these reviews are stainless steel bar (“SSB”). SSB means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. SSB includes cold-finished SSBs that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections.

The SSB subject to these reviews is currently classifiable under subheadings 7222.10.0005, 7222.10.0050, 7222.20.0005, 7222.20.0045, 7222.20.0075, and 7222.30.0000 of the Harmonized Tariff Schedule of the United States (“HTSUS”). Although the HTSUS subheadings are provided for convenience and customs purposes, our written description of the scope of these reviews is dispositive.

Rescission

As noted in our Preliminary Results, Bhansali, Jyoti, and Shah reported no shipments of the subject merchandise to the United States during the POR that were not already covered by a previous segment of this proceeding. We independently confirmed this information with the Customs Service. Therefore, in accordance with 19 CFR 351.213(d)(3), we are rescinding the review with respect to these companies.

Analysis of Comments Received

All issues raised in the case and rebuttal briefs by parties to these reviews are addressed in the Decision Memo from Susan Kuhbach, Acting Deputy Assistant Secretary, Import Administration, to Richard W. Moreland, Acting Assistant Secretary for Import Administration, dated August 3, 2000, which is adopted by this notice. A list of the issues which parties have raised and to which we have responded, all of which are in the Decision Memo, is attached to this notice as an Appendix. Parties can find a complete discussion of all issues raised in this review and the corresponding recommendation in this public memorandum which is on file in the Central Records Unit, room B-099 of the main Department building. In addition, a complete version of the Decision Memo can be accessed directly on the Web at http://ia.ita.doc.gov/. The paper copy and electronic version of the Decision Memo are identical in content.

Use of Facts Otherwise Available

In the Preliminary Results, we applied total adverse facts available to Panchmahal, Viraj and Parekh. As total facts available, we used 21.02 percent. Upon reviewing the arguments presented by interested parties, as well as a thorough review of all the information on the record, we have determined that the continued use of total facts available with respect to Panchmahal and Viraj is unwarranted. We have determined, however, that the use of partial facts available is necessary in certain circumstances for Panchmahal and Viraj. For a complete discussion on why we are applying partial facts available for these final results, see Facts Available, Comments 1 and 4 in the Decision Memo.

For Panchmahal, we have used constructed value as the basis for normal value as facts available. In addition, we have added the highest finishing cost reported based on size and finishing operation for all products.

For Viraj, we have used third country sales as the basis for normal value. Where there were no identical matches, we used the all-others rate, 12.45, as facts available.

As in the Preliminary Results, we continue to find that the use of total facts available for Parekh is warranted. We have now corroborated the facts available rate of 21.02 percent for this review. For a further discussion of this issue, see Facts Available, Comment 5 in the Decision Memo.

Changes From the Preliminary Results

We calculated export price and normal value based on the same methodology used in the Preliminary Results, with the following exceptions:

Chandan

We used constructed value (“CV”) to calculate normal value (“NV”) for the company's U.S. sales that did not have contemporaneous home market sales for matching purposes. In accordance with section 773(e)(1) of the Act, we calculated CV based on the sum of Chandan's cost of materials, labor, overhead, G&A, selling, profit, and U.S. packing costs.

Facor

We adjusted Facor's direct material costs and credit expenses, and corrected certain ministerial errors (see Cost of Production/Constructed Value, Comment 3; Verification, Comment 1; and Ministerial Errors, Comment 1 in the Decision Memo).

Isibars

We adjusted the payment date for several sales and allowed certain interest revenue adjustments (see Export Price, Comment 2 of the Decision Memo).

Panchmahal

To determine whether sales of stainless steel bar from India to the United States were made at less than NV, we compared export price (“EP”) to the NV, as discussed below. We based NV on CV (see Facts Available, Comment 1, in the Decision Memo).

In calculating Panchmahal's price to the United States, we used EP, in accordance with section 772(a) of the Act, because the subject merchandise was sold directly to the first unaffiliated purchaser in the United States prior to importation into the United States and use of constructed export price was not otherwise indicated.

We calculated EP based on either the CIF or CFR price to the United States. In accordance with section 772(c)(2) of the Act, we made deductions for discounts, foreign inland freight, international freight, marine insurance, and brokerage and handling.

In accordance with section 773(e)(1) of the Act, we calculated CV based on the sum of Panchmahal's cost of materials, labor, overhead, G&A, selling, profit, and U.S. packing costs. Finally, for Panchmahal's price-to-CV comparisons, we made adjustments to CV in accordance with section 773(a)(8) of the Act.

Sindia and Venus

Cost of Production Analysis

As noted in the Preliminary Results, the Department found reasonable grounds to believe or suspect that sales by these companies in their comparison markets were made at prices below their respective costs of production (“COP”), based on cost allegations made by the petitioners. However, time did not permit us to examine prices and costs for the Preliminary Results. Therefore, we are conducting a COP analysis for the first time in these final results for Sindia and Venus. This analysis is described below.

A. Calculation of COP

In accordance with section 773(b)(3) of the Act, we calculated a weighted-average COP, by model, based on the sum of the cost of materials, fabrication, general and administrative expenses, and packing costs. For both Sindia and Venus, we recalculated the reported COP and CV by averaging the material expenses reported for identical models to ensure that identical merchandise had single, model-specific cost of materials (“COM”) values (see Facts Available, Comment 3 of the Decision Memo).

B. Test of Comparison Market Prices

We compared the weighted-average COP for the respective companies to comparison market sales of the foreign like product, as required under section 773(b) of the Act, in order to determine whether these sales had been made at prices below the COP. We deducted from comparison market prices movement charges, discounts, and direct and indirect selling expenses.

In determining whether to disregard comparison market sales made at prices below the COP, we examined whether such sales were made (1) within an extended period of time in substantial quantities, and (2) at prices which permitted the recovery of all costs within a reasonable period of time in the normal course of trade, in accordance with sections 773(b)(1)(A) and (B) of the Act.

C. Results of the COP Test

Pursuant to section 773(b)(2)(C) of the Act, where less than 20 percent of a respondent's sales of a given product are made at prices below the COP, we do not disregard any below-cost sales of that product because the below-cost sales were not made in “substantial quantities.” However, where 20 percent or more of a respondent's sales of a given product were at prices less than the COP, we determined that such sales have been made in “substantial quantities” within an extended period of time in accordance with section 773(b)(2)(B) of the Act. In such cases, because we compared prices to POR-average costs, we also determined that such sales were not made at prices which would permit recovery of all costs within a reasonable period of time, in accordance with section 773(b)(2)(D) of the Act. Therefore, we disregarded the below-cost sales.

We found that both Sindia and Venus made comparison market sales at below COP prices within an extended period of time in substantial quantities. Further, we found that these sales prices did not permit the recovery of costs within a reasonable period of time. Therefore, we excluded these sales from our analysis in accordance with section 773(b)(1) of the Act.

Calculation of CV

In accordance with section 773(e)(1) of the Act, we calculated CV for Sindia and Venus based on the sum of the respective respondent's cost of materials, labor, overhead, G&A, selling, profit, and U.S. packing costs.

Having completed our cost investigation, we conducted comparisons as discussed below.

Price-to-Price Comparisons

For comparisons to those products for which there were comparison market sales at prices at or above the COP, we based NV on prices to comparison market customers. We made adjustments, where appropriate, for physical differences in the merchandise in accordance with section 773(a)(6)(C)(ii) of the Act. We also made additions for interest revenue and deductions, where appropriate, for rebates, inland freight, international freight, marine insurance, and brokerage and handling. In addition, we made circumstance-of-sale adjustments for credit and bank charges, where appropriate. Finally, in accordance with section 773(a)(6)(A) of the Act, we deducted comparison market packing costs and added U.S. packing costs.

Price-to-CV Comparisons

For price-to-CV comparisons, we made adjustments to CV in accordance with section 773(a)(8) of the Act.

For Sindia, we made further changes as follows:

1. We recalculated its yield loss ratio to account for total waste as reported in Sindia's Annual Report. See Cost of Production/Constructed Value, Comment 6 in the Decision Memo.

2. We recalculated its fixed overhead rate to account for total insurance expenses. Cost of Production/Constructed Value, Comment 7 in the Decision Memo.

3. We recalculated SG&A and interest expense ratios. Cost of Production/Constructed Value, Comments 9 and 10 in the Decision Memo.

Viraj

To determine whether sales of stainless steel bar from India to the United States were made at less than NV, we compared EP to the NV, as discussed below.

In calculating the price to the United States, we used EP, in accordance with section 772(a) of the Act, because the subject merchandise was sold directly to the first unaffiliated purchaser in the United States prior to importation into the United States and use of constructed export price was not otherwise indicated.

We calculated EP based on the CIF price to the United States. In accordance with section 772(c)(2) of the Act, we made deductions for foreign inland freight, international freight, marine insurance, and brokerage and handling.

Viraj claimed an upward adjustment to EP for a “duty drawback” program. We make such an adjustment when a respondent can demonstrate that it meets both parts of our two-part test. There must be: (1) A sufficient link between the import duty and the rebate, and (2) a sufficient amount of raw materials imported and used in the production of the final exported product (see Certain Welded Carbon Standard Steel Pipes and Tubes from India, 62 FR 47632, 47635 (September 10, 1997)). Because Viraj did not demonstrate a sufficient link between the import duty and the rebate, we have not made an adjustment to EP. Specifically, Viraj did not demonstrate that the rebate received upon exportation directly related to specific import duties paid on materials used in the production of the subject merchandise.

In the case of Viraj, we based NV on the company's sales to a third country market as facts available. (For a further discussion of this issue, see Facts Available, Comment 4, in the Decision Memo.) Viraj's aggregate sales of the foreign like product to its third country market, Canada, were greater than five percent of its sales, by volume, of the subject merchandise to the United States. Thus, Viraj's third country market satisfies the criteria of section 773(a)(1)(B)(ii) of the Act.

In using these sales to Canada, we made adjustments, where appropriate, for physical differences in the merchandise in accordance with section 773(a)(6)(C)(ii) of the Act. We also made deductions, where appropriate, for foreign inland freight, international freight, marine insurance, and brokerage and handling. In addition, we made circumstance-of-sale adjustments for credit and bank charges, where appropriate. Finally, in accordance with section 773(a)(6) of the Act, we deducted comparison market packing costs and added U.S. packing costs.

Final Results of Review

We determine that the following percentage weighted-average margins exist for the period February 1, 1998, through January 31, 1999:

Manufacturer/exporter | Margin (percent)
Chandan | 0.00
Facor | 19.54
Isibars | 0.07 (de minimis)
Panchmahal | 10.24
Parekh | 21.02
Sindia | 1.33
Venus | 0.33 (de minimis)
Viraj | 2.50
Meltroll | 0.00

The Department shall determine, and Customs shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant order during the review period.

Cash Deposit Requirements

The following deposit requirements will be effective upon publication of this notice of final results of administrative review and new shipper review for all shipments of stainless steel bar from India entered, or withdrawn from warehouse, for consumption on or after the date of publication, as provided by section 751(a)(1) of the Act: (1) The cash deposit rate for the reviewed companies will be the rates shown above except that, for firms whose weighted-average margins are less than 0.5 percent and, therefore, de minimis, the Department shall require no deposit of estimated antidumping duties; (2) for previously reviewed or investigated companies not listed above, the cash deposit rate will continue to be the company-specific rate published for the most recent period; (3) if the exporter is not a firm covered in these reviews, a prior review, or the original investigation, but the manufacturer is, the cash deposit rate will be the most recent rate established for the manufacturer of the merchandise; and (4) the cash deposit rate for all other manufacturers or exporters will continue to be 12.45 percent. This rate is the “all others” rate from the LTFV investigation (59 FR 66915, 66921, December 28, 1994).

These deposit requirements will remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective orders (“APOs”) of their responsibility concerning the disposition of proprietary information disclosed under APO in accordance with 19 CFR 351.305(a)(3). Timely written notification of the return/destruction of APO materials or conversion to judicial protective order is hereby requested. Failure to comply with the regulations and the terms of an APO is a violation which is subject to sanction.

We are issuing and publishing this determination and notice in accordance with sections 751(a)(1), 751(a)(2)(B), and 777(i)(1) of the Act.

Appendix—Issues in Decision Memo

Comments and Responses

1. Facts Available

2. Cost of Production/Constructed Value

3. Export Price

4. Affiliation

5. Normal Value

6. Verification

7. Ministerial Errors

8. Other Issues

Dated: August 3, 2000.
Richard W. Moreland,
Acting Assistant Secretary for Import Administration.

[FR Doc. 00-20328 Filed 8-9-00; 8:45 am]

BILLING CODE 3510-DS-U